DEPARTMENT OF THE INTERIOR

Fish and Wildlife Service

[FWS-R8-R-2010-N272; 81683-1265-0000-S3]

Seal Beach National Wildlife Refuge, Orange County, CA; Draft Comprehensive Conservation Plan/Environmental Assessment

AGENCY: Fish and Wildlife Service, Interior.

ACTION: Notice of availability; request for comments.

SUMMARY: We, the U.S. Fish and Wildlife Service (Service), announce the availability of a draft comprehensive conservation plan (CCP) and environmental assessment (EA) for the Seal Beach National Wildlife Refuge for public review and comment. The CCP/EA, prepared under the National Wildlife Refuge System Improvement Act of 1997, and in accordance with the National Environmental Policy Act of 1969, describes how the Service will manage the Refuge for the next 15 years. Two step-down plans (an Integrated Pest Management Program and a Mosquito Management Plan), as well as draft compatibility determinations for several existing and proposed public uses, are also available for review and public comment.

DATES: To ensure consideration, we must receive your written comments by May 9, 2011.

ADDRESSES: Send your comments or requests for more information by any of the following methods.

E-mail: Victoria_Touchstone@fws.gov. Include “Seal Beach CCP” in the subject line of the message.

Fax: Attn: Victoria Touchstone, Refuge Planner, (760) 930-0256.

U.S. Mail: Victoria Touchstone, U.S. Fish and Wildlife Service, San Diego NWR Complex, 6010 Hidden Valley Road, Suite 101, Carlsbad, CA 92011.

In-Person Drop-off: You may drop off comments during regular business hours at the above address.

FOR FURTHER INFORMATION CONTACT: Victoria Touchstone, Refuge Planner, at (760) 431-9440, extension 349, or Victoria_Touchstone@fws.gov; or Kirk Gilligan, Refuge Manager, at (562) 598-1024. Further information may also be found at http://www.fws.gov/sandiegorefuges/ (click on Seal Beach NWR CCP link in the refuge planning box at the upper left hand corner of the Web page).

SUPPLEMENTARY INFORMATION: The National Wildlife Refuge System Improvement Act of 1997 (16 U.S.C. 668dd-668ee), which amended the National Wildlife Refuge System Administration Act of 1966, requires us to develop a CCP for each national wildlife refuge. The purpose in developing a CCP is to provide refuge managers with a 15-year plan for achieving refuge purposes and contributing toward the mission of the National Wildlife Refuge System, consistent with sound principles of fish and wildlife management, conservation, legal mandates, and our policies. In addition to outlining broad management direction on conserving wildlife and their habitats, CCPs identify wildlife-dependent recreational opportunities available to the public, including opportunities for hunting, fishing, wildlife observation and photography, environmental education and interpretation.

We initiated the CCP/EA for the Seal Beach National Wildlife Refuge in April 2007. At that time and throughout the process, we requested, considered, and incorporated public scoping comments in numerous ways. Our public outreach has included a Federal Register notice of intent published on April 16, 2007 (72 FR 190160), two scoping meetings, two planning updates, and a CCP Web page (http://www.fws.gov/sandiegorefuges; click on Seal Beach NWR CCP link). We received two scoping comments during the 30-day public comment period.

Background

Legislation authorizing the establishment of the Seal Beach NWR was signed by President Richard M. Nixon on August 29, 1972. The Refuge boundaries, which are located entirely within Naval Weapons Station Seal Beach, were determined by the Secretary of the Interior with the advice and consent of the Secretary of the Navy. In accordance with the authorizing legislation, the Refuge is to be managed pursuant to the National Wildlife Refuge System Administration Act of 1966, as amended, and pursuant to plans which are mutually acceptable to the Secretary of the Interior and the Secretary of the Navy. The Refuge was officially established on July 11, 1974, following approval of a general management plan for the Refuge by the Service and the Navy. Refuge purposes include preservation and management of habitat for endangered species (i.e., light-footed clapper rail and California least tern) and preservation of habitat to support migratory waterfowl, shorebirds, and other water birds.

The Refuge, which encompasses approximately 965 acres, includes one of the largest remaining salt marshes along the southern California coast. This coastal wetland supports three Federally listed species, including the endangered light-footed clapper rail, California least tern, and eastern Pacific green sea turtle. The State-listed endangered Belding's savannah sparrow, along with the light-footed clapper rail and California least tern, nest and raise their young within the boundaries of the Refuge. The security needs for Naval Weapons Station Seal Beach require that all public access onto the Refuge be limited to supervised visits, such as monthly public tours and other prescheduled group tours or events.

Alternatives

The Draft CCP/EA identifies and evaluates three alternatives for managing the Seal Beach National Wildlife Refuge over the next 15 years. The alternative that appears to best meet the Refuge purposes is identified as the preferred alternative. The preferred alternative has been identified based on the analysis presented in the Draft CCP/EA, which may be modified following the completion of the public comment period based on comments received from other agencies, Tribal governments, nongovernmental organizations, and individuals.

Under Alternative A, the no-action alternative, we would continue to manage the Refuge as we have in the recent past. No changes in wildlife and habitat management or public use would occur.

With Alternative B, current wildlife and habitat management activities would be expanded to include evaluation of current Refuge baseline data for fish, wildlife, and plants; identification of data gaps; implementation of species surveys to address data gaps as staff time and funding allow; restoration of native habitat; and support for new research projects that would benefit Refuge resources and Refuge management. Habitat restoration would focus on increasing salt marsh and intertidal mudflat habitat, with some restoration of wetland/upland transition habitat also proposed. Pest control would be implemented in accordance with an Integrated Pest Management Program, and mosquito monitoring and control would be guided by a Mosquito Management Plan. No changes to the current public-use program would occur.

Alternative C, the preferred alternative, includes the majority of the management activities proposed in Alternative B. The primary differences between the two alternatives include a different focus on habitat restoration and expansion of the opportunities available for wildlife observation on the Refuge. Under Alternative C, the focus of the restoration effort would be on upland and wetland/upland transition habitat, with fewer acres restored to intertidal habitat.

Public Meetings

The locations, dates, and times of public meetings will be listed in a planning update distributed to the project mailing list and posted on the refuge planning Web site at http://www.fws.gov/sandiegorefuges (click on the Seal Beach NWR CCP link).

Review and Comment

Copies of the Draft CCP/EA may be obtained by writing to Victoria Touchstone (seeADDRESSES). Printed copies of the Draft CCP/EA may be viewed at the same address or at the Seal Beach/Mary Wilson Library, 707 Electric Avenue, Seal Beach, CA 90740. The Draft CCP/EA has also been made available for review at http://www.fws.gov/sandiegorefuges (click on the Seal Beach NWR CCP link). Comments on the Draft CCP/EA should be addressed to Victoria Touchstone (see ADDRESSES).

At the end of the review and comment period for this Draft CCP/EA, comments will be analyzed by the Service and addressed in the Final CCP. Before including your address, phone number, e-mail address, or other personal identifying information in your comment, you should be aware that your entire comment—including your personal identifying information—may be made publicly available at any time. While you can ask us in your comment to withhold your personal identifying information from public review, we cannot guarantee that we will be able to do so.

Dated: March 16, 2011.
Ren Lohoefener,
Regional Director, Pacific Southwest Region, Sacramento, California.

[FR Doc. 2011-6907 Filed 3-23-11; 8:45 am]

BILLING CODE 4310-55-P